DEPARTMENT OF HEALTH AND HUMAN SERVICES

Centers for Disease Control and Prevention

[60Day-24-1108; Docket No. CDC-2024-0041]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a continuing information collection, as required by the Paperwork Reduction Act of 1995. This notice invites comment on a proposed information collection project titled Paul Coverdell National Acute Stroke Program (PCNASP). This data collection is designed to monitor trends in stroke and stroke care, with the ultimate mission of improving the quality of care for stroke patients in the United States.

DATES: CDC must receive written comments on or before August 5, 2024.

ADDRESSES: You may submit comments, identified by Docket No. CDC-2024-0041 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Paul Coverdell National Acute Stroke Program (PCNASP) (OMB Control No. 0920-1108, Exp. 9/30/2024)—Extension—National Center for Chronic Disease Prevention and Health Promotion (NCCDPHP), Centers for Disease Control and Prevention (CDC).

Background and Brief Description

The Centers for Disease Control and Prevention (CDC), Division for Heart Disease and Stroke Prevention (DHDSP), requests an Extension of a previously approved data collection for a period of three years. The CDC is the primary Federal agency for protecting health and promoting quality of life through the prevention and control of disease, injury, and disability. CDC is committed to programs that reduce the health and economic consequences of the leading causes of death and disability, thereby ensuring a long, productive, healthy life for all people.

Stroke remains a leading cause of serious, long-term disability and is the fifth leading cause of death in the United States after heart disease, cancer, chronic lower respiratory diseases, and accidents. Estimates indicate that approximately 795,000 suffer a first-ever or recurrent stroke each year with more than 145,000 deaths annually. Although there have been significant advances in preventing and treating stroke, the rising prevalence of heart disease, diabetes, and obesity has increased the relative risk for stroke, especially in African American populations. There is a critical need to improve access to and quality of care for those at highest risk for events and stroke patients among the continuum of care, particularly among high burden populations. Coverdell-funded State programs are in the forefront of developing and implementing system-change efforts to improve stroke systems of care using strategies like linking and using data, using team-based approaches to coordinate stroke care, and providing community resources to reach the general populations and specifically those at highest risk of stroke events, and reduce disparities in access to quality care for high burden populations.

When Congress directed the Centers for Disease Control and Prevention (CDC) to establish the Paul Coverdell National Acute Stroke Program (PCNASP) in 2001, CDC intended to monitor trends in stroke and stroke care, with the ultimate mission of improving the quality of care for stroke patients in the United States. Since 2021, CDC has funded and provided technical assistance to thirteen recipients to develop comprehensive stroke systems of care. A comprehensive system of care improves quality of care by creating seamless transitions for individuals experiencing stroke. In such a system, pre-hospital providers, in-hospital providers, and early post-hospital providers coordinate patient hand-offs and ensure continuity of care.

While PCNASP has existed since 2001, the goal and mission of the program has evolved with each funding cycle. The 2021-2024 funding cycle is the first such initiative to focus on addressing health equity specifically and understanding efforts to impact stroke outcomes for those at highest risk of stroke. CDC proposes to continue collecting information from thirteen funded PCNASP recipients to gain insight into the effectiveness of implementation approaches, including linking and using data, using team-based approaches to coordinate stroke care, and providing community resources in order to reach the general population and those at highest risk of stroke events, and reduce disparities in access to quality care for high burden populations. The insights to be gained from this continuing data collection will be critical to improving immediate efforts and achieving the goals of spreading and replicating State-level strategies that are proven programmatically and are cost-effective in contributing to a higher quality of care for stroke patients.

CDC requests OMB approval for an estimated 501 annual burden hours. There is no cost to respondents other than their time to participate.

Estimated Annualized Burden Hours
Type of respondents | Form name | Number of respondents | Number of responses per respondent | Average burden per response (in hours) | Total burden (in hours)
PCNASP Awardee | Hospital inventory | 13 | 1 | 8 | 104
| In-hospital care data | 13 | 4 | 30/60 | 26
| Pre-hospital care data | 3 10 | 4 4 | 30/60 1 | 6 40
PCNASP Hospital Partners | Hospital Inventory | 650 | 1 | 30/60 | 325
Total |  |  |  |  | 501

Jeffrey M. Zirger,
Lead, Information Collection Review Office, Office of Public Health Ethics and Regulations, Office of Science, Centers for Disease Control and Prevention.

[FR Doc. 2024-12237 Filed 6-3-24; 8:45 am]

BILLING CODE 4163-18-P